DEPARTMENT OF ENERGY

Federal Energy Regulatory Commission

[Docket No. CP02-60-005]

Trunkline LNG Company, LLC; Notice of Amendment

June 21, 2005

Take notice that on June 16, 2005, Trunkline LNG Company, LLC (Trunkline LNG), PO Box 4967, Houston, Texas 77210-4967, filed in Docket No. CP02-60-005 an abbreviated application pursuant to the Natural Gas Act (NGA) to establish an interim initial rate to provide interim vaporization capacity under Rate Schedule FTS-2 by July 20, 2005, all as more fully set forth in the application, which is open to the public for inspection. The filing is available for review in the Public Reference Room or may be viewed on the Commission's Web site at http://www.ferc.gov using the “eLibrary” link. Enter the docket number excluding the last three digits in the docket number filed to access the document. For assistance, please contact FERC Online Support at FERConlineSupport@ferc.gov or toll-free at (866) 208-3676, or for TTY, contact (202) 502-8659.

Any questions regarding this application may be directed to William W. Grygar, Vice President, Rates and Regulatory Affairs, at (713) 989-7000, Trunkline LNG Company, LLC, 5444 Westheimer Road, Houston, Texas 77056.

Trunkline LNG seeks Commission authorization to place certain LNG vaporization facilities into service as soon as their successful construction, completion and testing will allow. The additional interim vaporization capacity will permit BG LNG Services, LLC (BG LNG) to increase their sendout at Trunkline LNG's LNG terminal from 630,000 Mcf per day to 1,200,000 Mcf per day. This increased sendout will allow BG LNG additional flexibility to schedule its LNG cargoes for the remainder of 2005. The remainder of the facilities approved by the Commission, the LNG storage tank and the layberth, continue to be scheduled for completion as originally contemplated. Trunkline LNG requests that the Commission approve the proposed interim Cost of Service and Derivation of Rates in order to provide the interim vaporization capacity to BG LNG.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: July 1, 2005.

Magalie R. Salas,
Secretary.

[FR Doc. E5-3427 Filed 6-29-05; 8:45 am]

BILLING CODE 6717-01-P